DEPARTMENT OF ENERGY

Federal Energy Regulatory Commission

[Docket No. RP04-136-002]

Iroquois Gas Transmission System, L.P.; Notice of Compliance Filing

March 5, 2004.

Take notice that on February 19, 2004, Iroquois Gas Transmission System, L.P. (Iroquois) tendered for filing the Prepared Supplemental Direct Testimony of Kenneth B. Johnston and the Prepared Supplemental Direct Testimony of Scott E. Rupff, which Iroquois states is filed in compliance with Ordering Paragraph (B) of the Commission's Order issued in the above-referenced docket on January 30, 2004.

Iroquois states that Mr. Johnston's supplemental testimony addresses each of the provisions of 18 CFR 154.202 as they relate to Iroquois' rate proposal, and particularly the rates for secondary access to the Eastchester expansion.

Iroquois states that Mr. Rupff's supplemental testimony addresses issues related to priority of service, applicable tariff provisions for Eastchester secondary access service, and the revenue impacts of such service.

Any person desiring to protest said filing should file a protest with the Federal Energy Regulatory Commission, 888 First Street, NE., Washington, DC 20426, in accordance with section 385.211 of the Commission's rules and regulations. All such protests must be filed on or before the protest date as shown below. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. Comments, protests and interventions may be filed electronically via the Internet in lieu of paper. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Protest Date: March 12, 2004.

Magalie R. Salas,
Secretary.

[FR Doc. E4-541 Filed 3-10-04; 8:45 am]

BILLING CODE 6717-01-P